DEPARTMENT OF TRANSPORTATION

National Highway Traffic Safety Administration

[Docket No. NHTSA-2000-8808; Notice 2]

Philips Lighting Company; Mootness of Application for Decision of Inconsequential Noncompliance

Philips Lighting Company (Philips), of Somerset, New Jersey, has determined that certain H3-55W replaceable light sources it manufactured do not have the “DOT” marking required under 49 CFR 571.108, Federal Motor Vehicle Safety Standard (FMVSS) No. 108, “Lamps, Reflective Devices, and Associated Equipment,” and has filed an appropriate report pursuant to 49 CFR part 573, “Defect and Noncompliance Reports.” Philips has also applied to be exempted from the notification and remedy requirements of 49 U.S.C. chapter 301—“Motor Vehicle Safety” on the basis that the noncompliance is inconsequential to motor vehicle safety. Under the requirements of S7.7(a) of FMVSS No. 108, each replaceable light source shall be marked with the symbol “DOT.”

Notice of receipt of the application was published in the Federal Register (66 FR 10053) on February 13, 2001. Opportunity was afforded for public comment until March 15, 2001. No comments were received.

Between January 1998 to December 1999, Philips produced 67,299 H3-55W replaceable light sources that do not have the “DOT” marking. Philips has indicated that the subject replaceable light sources, with the exception of the absence of the “DOT” marking, fully comply with all the performance and design requirements of FMVSS No. 108 and do not constitute any risk to motor vehicle safety. Philips has submitted test results to support this.

We have reviewed the application. Because the purpose of the “DOT” marking is to certify that the replaceable light sources comply with all applicable standards, the failure to mark light sources with a DOT symbol is considered a violation of 49 U.S.C. 30115, Certification, which does not require notification or remedy. Therefore, after due consideration, we have decided that this application is moot.

(49 U.S.C. 30118(d) and 30120(h); delegations of authority at 49 CFR 1.50 and 501.8)

Issued on: July 17, 2001.
Stephen R. Kratzke,
Associate Administrator for Safety Performance Standards.

[FR Doc. 01-18306 Filed 7-20-01; 8:45 am]

BILLING CODE 4910-59-P